DEPARTMENT OF HEALTH AND HUMAN SERVICES

Administration for Children and Families

Proposed Information Collection Activity; Comment Request; Proposed Projects: Supporting Healthy Marriage (SHM) Project Baseline Data Collection

OMB No.: New collection.

Description: The Administration for Children and Families (ACF), U.S. Department of Health and Human Services (HHS), has launched a new demonstration and evaluation called the Supporting Healthy Marriage (SHM) Project. The first large-scale, multi-site, multi-year, rigorous test of marriage skills programs for low-income married couples, the project is motivated by research that indicates that married adults, and children raised by their married parents, do better on a host of outcomes. Supporting Healthy Marriage is designed to inform program operators and policymakers of the most effective ways to help couples strengthen and maintain healthy marriages. In particular, the project will measure the effectiveness of programs that provide instruction and support to improve relationship skills.

This collection is a baseline survey of study participants. The baseline data collection will serve several key functions in the SHM study. It will help describe the population being served, which will be useful to the programs being studied, to other marriage education program providers, and to policy makers who seek to understand the characteristics of couples that are interested in marriage education services. It will allow the SHM team to define and conduct analyses of key sub-groups, addressing the key study question of who benefits most and least from marriage education services. A baseline data collection will also allow the research team to conduct analyses using pre- and post-intervention measures. Lastly, the baseline data collection is an opportunity to collect participant contact information, to check the validity of random assignment, to assess the quality of survey data and attrition, and to increase the precision of estimated impacts.

Respondents: The target population of the SHM study is low-income married couples with children. Both members of the couple must be over 18 and both must volunteer to participate in the program. The respondents for the Supporting Healthy Marriage Project Baseline Data Collection will be participants in the SHM study. This will include both those receiving SHM program services and those in the SHM study control group. The respondents will be both spouses of 1,000 low-income married couples (2,000 respondents) in each of up to eight demonstration sites. The total number of respondents could be up to 16,000. The study team will conduct participant intake over the course of two years, thus yielding about 8,000 respondents per year.

Annual Burden Estimates
Instrument | Number of respondents | Number of responses per respondent (min) | Average burden hours per response (min) | Total burden hours
Eligibility Checklist | 8,000 | 1 | 5 | 667
Informed Consent Form | 8,000 | 1 | 10 | 1,333
Baseline Information Form | 8,000 | 1 | 10 | 1,333
Self-Administered Questionnaire | 8,000 | 1 | 15 | 2,000
Contact Information Form | 8,000 | 1 | 10 | 1,333
Estimated Total Annual Burden Hours: |  |  | 50 | 6,666

In compliance with the requirements of Section 3506(c)(2)(A) of the Paperwork Reduction Act of 1995, the Administration for Children and Families is soliciting public comment on the specific aspects of the information collection described above. Copies of the proposed collection of information can be obtained and comments may be forwarded by writing to the Administration for Children and Families, Office of Administration, Office of Information Services, 370 L'Enfant Promenade, SW., Washington, DC 20447, Attn: ACF Reports Clearance Officer. E-mail address: grjohnson@acf.hhs.gov./ All requests should be identified by the title of the information collection.

The Department specifically requests comments on: (a) Whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Dated: July 7, 2005.
Robert Sargis,
Reports Clearance Officer.

[FR Doc. 05-13713 Filed 7-12-05; 8:45 am]

BILLING CODE 4184-07-M